DEPARTMENT OF HEALTH AND HUMAN SERVICES

Centers for Medicare & Medicaid Services

Privacy Act of 1974; Matching Program

AGENCY: Centers for Medicare & Medicaid Services (CMS), Department of Health and Human Services (HHS).

ACTION: Notice of new matching program.

SUMMARY: In accordance with subsection (e)(12) of the Privacy Act of 1974, as amended, the Department of Health and Human Services (HHS), Centers for Medicare & Medicaid Services (CMS) is providing notice of the re-establishment of a matching program between CMS and the Social Security Administration (SSA). Under this matching program, SSA will provide CMS with information for determining individuals' eligibility for enrollment in a Qualified Health Plan, issuing certificates of exemption, and eligibility redeterminations and renewals. This matching program is titled, “Determining Enrollment or Eligibility for Insurance Affordability Programs Under the Patient Protection and Affordable Care Act.”

DATES: The deadline for comments on this notice is March 11, 2026. The re-established matching program will commence not sooner than 30 days after publication of this notice, provided no comments are received that warrant a change to this notice. The matching program will be conducted for an initial term of 18 months (from approximately March 9, 2026 to September 8, 2027) and within three months of expiration may be renewed for one additional year if the parties make no change to the matching program and certify that the program has been conducted in compliance with the matching agreement.

ADDRESSES: Interested parties may submit comments on the new matching program to the CMS Privacy Act Officer by mail at: Division of Security, Privacy Policy & Governance, Information Security & Privacy Group, Office of Information Technology, Centers for Medicare & Medicaid Services, Location: N1-14-56, 7500 Security Blvd., Baltimore, MD 21244-1850, or by email at Barbara.demopulos@cms.hhs.gov.

FOR FURTHER INFORMATION CONTACT: If you have questions about the matching program, you may contact Anne Pesto, Senior Advisor, Marketplace Eligibility and Enrollment Group, Center for Consumer Information and Insurance Oversight, Centers for Medicare & Medicaid Services, at 443-844-9966, by email at anne.pesto@cms.hhs.gov, or by mail at 7500 Security Blvd., Baltimore, MD 21244.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o)(2)(A)(i), (r), and (u)(3)(D).

5. Publish advance notice of the matching program in the Federal Register as required by 5 U.S.C. 552a(e)(12).

This matching program meets these requirements.

Barbara Demopulos,
Privacy Act Officer, Division of Security, Privacy Policy and Governance, Office of Information Technology, Centers for Medicare & Medicaid Services.

Participating Agencies

The Department of Health and Human Services (HHS), Centers for Medicare & Medicaid Services (CMS) is the recipient agency, and the Social Security Administration (SSA) is the source agency.

Authority for Conducting the Matching Program

The statutory authority for the matching program is 42 U.S.C. 18081 and 18083.

Purpose(s)

The purpose of the matching program is to provide CMS with SSA information which CMS will use to determine individuals' eligibility for initial enrollment in a Qualified Health Plan through an Exchange established under the Patient Protection and Affordable Care Act; for Insurance Affordability Programs (IAPs); for certificates of exemption from the shared responsibility payment; and to make eligibility redeterminations and renewal decisions, including appeal determinations. IAPs include:

1. Advance payments of the premium tax credit (APTC) and cost sharing reductions (CSRs),

2. Medicaid,

3. Children's Health Insurance Program (CHIP), and

4. Basic Health Program (BHP).

Categories of Individuals

The individuals whose information will be used in the matching program are consumers (applicants and enrollees) who receive the eligibility determinations and redeterminations described in the preceding Purpose(s) section.

Categories of Records

The categories of records used in the matching program are identity information, citizenship and death/disability indicators, incarceration information, and income information. To request information from SSA, CMS will submit a submission file to SSA that contains the following mandatory specified data elements: last name, first name, date of birth, Social Security Number (SSN), and citizenship indicator. When SSA is able to match the SSN and name provided by CMS and information is available, SSA will provide CMS with the following about each individual, as relevant: last name, first name, date of birth, death indicator, disability indicator, incarceration information, Title II (annual and monthly) income information, and confirmation of attestations of citizenship status and SSN. SSA may also provide Quarters of Coverage data when CMS requests it.

Systems of Records

The systems of records that support this matching program are identified below:

A. System of Records Maintained by CMS

• CMS Health Insurance Exchanges System (HIX), System No. 09-70-0560, last published in full at 78 FR 63211 (Oct. 23, 2013) and amended at 83 FR 6591 (Feb. 14, 2018).

B. Systems of Records Maintained by SSA

• Master Files of SSN Holders and SSN Applications (referred to as the Enumeration System), 60-0058, last fully published at 90 FR 50879 (Nov. 12, 2025);

• Prisoner Update Processing System (PUPS), 60-0269, last fully published at 64 FR 11076 (Mar. 8, 1999) and updated at 72 FR 69723 (Dec. 10, 2007), 78 FR 40542 (July 5, 2013), 83 FR 54969 (Nov. 1, 2018), and 90 FR 53413 (Nov. 25, 2025);

• Master Beneficiary Record (MBR) 60-0090, last fully published at 71 FR 1826 (Jan. 11, 2006), and updated at 72 FR 69723 (Dec. 10, 2007), 78 FR 40542 (July 5, 2013), 83 FR 31250 (July 3, 2018), 83 FR 54969 (Nov. 1, 2018), 89 FR 825 (Jan. 5, 2024), and 89 FR 14554 (Feb. 27, 2024); and

• Earnings Recording and Self-Employment Income System (referred to as the Master Earnings File (MEF)), 60-0059, last fully published at 71 FR 1819 (Jan. 11, 2006) and amended at 78 FR 40542 (July 5, 2013), 83 FR 54969 (Nov. 1, 2018), and 89 FR 825 (Jan. 5, 2024).

[FR Doc. 2026-02472 Filed 2-6-26; 8:45 am]

BILLING CODE 4120-03-P